DEPARTMENT OF EDUCATION

34 CFR Part 76

RIN 1890-AA13

State-Administered Programs

AGENCY: Department of Education.

ACTION: Notice of proposed rulemaking; correction.

SUMMARY: On April 27, 2006, we published a notice of proposed rulemaking for State-Administered Programs (NPRM) in the Federal Register (71 FR 24824). In the NPRM, we inadvertently included the incorrect OMB Control number for the Department's electronic EDFacts Data Management System. This notice corrects that error as follows:

On page 24824, column three, second to last sentence in the SUMMARY section, replace “1880-0541” with “1875-0240.”

FOR FURTHER INFORMATION CONTACT: Bonny Long, U.S. Department of Education, 400 Maryland Avenue, SW., room 7C110, Washington, DC 20202. Telephone: (202) 401-0325 or via Internet: Bonny.Long@ed.gov.

If you use a telecommunications device for the deaf (TDD), you may call the Federal Relay Service (FRS) at 1-800-877-8339.

Individuals with disabilities may obtain this document in an alternative format (e.g., Braille, large print, audiotape, or computer diskette) on request to the contact person listed in this section.

Electronic Access to This Document

You may view this document, as well as all other Department of Education documents published in the Federal Register, in text or Adobe Portable Document Format (PDF) on the Internet at this site: http://www.ed.gov/news/fedregister.

To use PDF you must have Adobe Acrobat Reader, which is available free at the site listed above. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Dated: May 10, 2006.
Tom Luce,
Assistant Secretary, Office of Planning, Evaluation and Policy Development.

[FR Doc. E6-7346 Filed 5-12-06; 8:45 am]

BILLING CODE 4000-01-P